DEPARTMENT OF HOMELAND SECURITY

Federal Emergency Management Agency

44 CFR Part 67

[Docket ID FEMA-2011-0002]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: The Federal Emergency Management Agency (FEMA) makes the final determinations listed below for the modified BFEs for each community listed. These modified elevations have been published in newspapers of local circulation and ninety (90) days have elapsed since that publication. The Deputy Federal Insurance and Mitigation Administrator has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground ‸ Elevation in meters (MSL) Modified | Communities affected
Sebastian County, Arkansas, and Incorporated Areas Docket No. FEMA-B-1171
Massard Creek | Approximately 155 feet upstream of Rogers Avenue | +406 | City of Fort Smith, Unincorporated Areas of Sebastian County.
| Approximately 720 feet upstream of State Highway 255 (Zero Street) | +420
Mill Creek | Approximately 200 feet downstream of South 28th Street | +477 | City of Fort Smith.
| Approximately 1.05 miles upstream of Jenny Lind Road | +521
No Name Creek | Approximately 0.33 mile upstream of the Sunnymede Creek confluence | +409 | City of Fort Smith.
| Approximately 185 feet downstream of the No Name Creek Tributary confluence | +456
No Name Creek Tributary | At the No Name Creek confluence | +456 | City of Fort Smith.
| Approximately 970 feet upstream of South 46th Street | +518
Spivey Creek. | At the Massard Creek confluence | +411 | City of Fort Smith, Unincorporated Areas of Sebastian County.
| Approximately 0.44 mile upstream of Industrial Drive | +477
* National Geodetic Vertical Datum.
+ North American Vertical Datum.
# Depth in feet above ground.
‸ Mean Sea Level, rounded to the nearest 0.1 meter.
ADDRESSES
City of Fort Smith
Maps are available for inspection at the Engineering Department, 623 Garrison Avenue, Suite 409, Fort Smith, AR 72901.
Unincorporated Areas of Sebastian County
Maps are available for inspection at the Sebastian County Courthouse, 35 South 6th Street, Fort Smith, AR 72901.
Sharkey County, Mississippi, and Incorporated Areas Docket No. FEMA-B-1159
Deer Creek | Approximately 9.8 miles upstream of the confluence with Rolling Fork Creek | +103 | Town of Anguilla, Unincorporated Areas of Sharkey County.
| Approximately 10.8 miles upstream of the confluence with Rolling Fork Creek | +103
Steele Bayou | An area bounded by the county boundary to the north, west, south, and east; approximately 3 miles south of the northern county boundary | +100 | City of Rolling Fork, Town of Anguilla, Town of Cary, Unincorporated Areas of Sharkey County.
Yazoo River | At the county boundary | +105 | Unincorporated Areas of Sharkey County.
| Approximately 300 feet upstream of the county boundary | +105
* National Geodetic Vertical Datum.
+ North American Vertical Datum.
# Depth in feet above ground.
‸ Mean Sea Level, rounded to the nearest 0.1 meter.
ADDRESSES
City of Rolling Fork
Maps are available for inspection at 130 Walnut Street, Rolling Fork, MS 39159.
Town of Anguilla
Maps are available for inspection at 22 Rolling Fork Road, Anguilla, MS 38924.
Town of Cary
Maps are available for inspection at 30 Oak Circle, Cary, MS 39054.
Unincorporated Areas of Sharkey County
Maps are available for inspection at 120 Locust Street, Rolling Fork, MS 39159.
Lewis County, Missouri, and Incorporated Areas Docket No. FEMA-B-1170
Artesian Branch (backwater effects from Mississippi River) | From approximately 1,000 feet downstream of the Artesian Branch Tributary 1 confluence to approximately 270 feet downstream of U.S. Route 61 | +493 | Unincorporated Areas of Lewis County.
Artesian Branch Tributary 1 (backwater effects from Mississippi River) | From the Artesian Branch confluence to approximately 240 feet downstream of U.S. Route 61 | +493 | Unincorporated Areas of Lewis County.
Doe Run (overflow effects from Mississippi River) | Approximately 475 feet downstream of the Doe Run Tributary 4 confluence | +494 | Unincorporated Areas of Lewis County.
| Approximately 1.0 mile upstream of County Road 494 | +495
Doe Run Tributary 4 (backwater effects from Mississippi River) | From the Doe Run confluence to approximately 360 feet downstream of U.S. Route 61 | +494 | Unincorporated Areas of Lewis County.
Durgens Creek (backwater effects from Mississippi River) | From the Mississippi River confluence to approximately 0.4 mile downstream of U.S. Route 61 | +488 | Unincorporated Areas of Lewis County.
Mississippi River | Approximately 3.0 miles downstream of the Durgens Creek confluence | +487 | City of Canton, City of La Grange, Unincorporated Areas of Lewis County.
| At the Clark County boundary | +495
Oyster Branch (backwater effects from Mississippi River) | From the Mississippi River confluence to approximately 630 feet downstream of U.S. Route 61 Business | +489 | Unincorporated Areas of Lewis County.
Wyaconda River (backwater effects from Mississippi River) | From the Mississippi River confluence to approximately 410 feet upstream of U.S. Route 61 Business | +489 | City of La Grange, Unincorporated Areas of Lewis County.
* National Geodetic Vertical Datum.
+ North American Vertical Datum.
# Depth in feet above ground.
‸ Mean Sea Level, rounded to the nearest 0.1 meter.
ADDRESSES
City of Canton
Maps are available for inspection at City Hall, 106 North 5th Street, Canton, MO 63435.
City of La Grange
Maps are available for inspection at City Hall, 118 South Main Street, La Grange, MO 63448.
Unincorporated Areas of Lewis County
Maps are available for inspection at the Lewis County Courthouse, 100 East Lafayette Street, Monticello, MO 63457.
Bedford County, Pennsylvania (All Jurisdictions) Docket No. FEMA-B-1158
Georges Creek | Approximately 1,932 feet downstream of Simple Road | +1278 | Township of West St. Clair.
| Approximately 1,562 feet downstream of Simple Road | +1284
Little Wills Creek | Approximately 1.0 mile upstream of the confluence with Wolf Camp Run | +1200 | Township of Harrison.
| Approximately 1.32 miles upstream of the confluence with Wolf Camp Run | +1215
Little Wills Creek | At the confluence with Wills Creek | +932 | Township of Londonderry.
| Approximately 280 feet upstream of the confluence with Wills Creek | +935
Raystown Branch Juniata River | Approximately 380 feet downstream of Ritchie Bridge Road | +927 | Township of Hopewell.
| Approximately 100 feet downstream of Ritchie Bridge Road | +928
Raystown Branch Juniata River | Approximately 0.46 mile downstream of Six Mile Run Road | +858 | Township of Liberty.
| Approximately 180 feet downstream of Six Mile Run Road | +860
* National Geodetic Vertical Datum.
+ North American Vertical Datum.
# Depth in feet above ground.
‸ Mean Sea Level, rounded to the nearest 0.1 meter.
ADDRESSES
Township of Harrison
Maps are available for inspection at the Harrison Township Municipal Building, 4747 Milligans Cove Road, Manns Choice, PA 15550.
Township of Hopewell
Maps are available for inspection at the Township Building, 1402 Norris Street, Hopewell, PA 16650.
Township of Liberty
Maps are available for inspection at the Liberty Township Building, 504 17th Street, Saxton, PA 16678.
Township of Londonderry
Maps are available for inspection at the Londonderry Township Building, 4303 Hyndman Road, Hyndman, PA 15545.
Township of West St. Clair
Maps are available for inspection at the West St. Clair Township Office, Chestnut Ridge Ambulance Building, 4037 Quaker Valley Road, Alum Bank, PA 15521.
Blair County, Pennsylvania (All Jurisdictions) Docket No. FEMA-B-1174
Bells Gap Run | At the downstream side of Becker Road | +1044 | Borough of Bellwood.
| At the upstream side of Becker Road | +1067
Blair Gap Run | Approximately 0.59 mile upstream of Mill Road | +1136 | Township of Allegheny.
| Approximately 0.69 mile upstream of Mill Road | +1141
Blair Gap Run | Approximately 975 feet upstream of the railroad | +1019 | Township of Allegheny.
| Approximately 890 feet downstream of 2nd Avenue | +1022
Brush Run | At the upstream side of 17th Street | +1096 | Township of Logan.
| Approximately 149 feet upstream of 17th Street | +1098
Burgoon Run | Approximately 405 feet upstream of Oak Avenue | +1132 | Township of Logan.
| Approximately 585 feet upstream of Oak Avenue | +1135
Cabbage Creek | Approximately 745 feet upstream of Main Street | +1222 | Township of Taylor.
| Approximately 975 feet upstream of Main Street | +1223
Clover Creek | Approximately 130 feet upstream of Private Drive | +1072 | Township of Huston, Township of Woodbury.
| Approximately 700 feet upstream of Private Drive | +1074
Frankstown Branch Juniata River | Approximately 1,855 feet downstream of State Route 36 (Woodbury Pike) | +995 | Township of Freedom.
| Approximately 1,050 feet downstream of State Route 36 (Woodbury Pike) | +998
Halter Creek | Approximately 709 feet downstream of Mountain Street | +1144 | Borough of Roaring Spring.
| Approximately 479 feet downstream of Mountain Street | +1146
Laurel Run | Approximately 1,025 feet upstream of Clite's Road | +1016 | Township of Snyder.
| Approximately 1,045 feet upstream of Clite's Road | +1017
Little Juniata River | Approximately 1,415 feet downstream of the Homer Gap Run confluence | +1081 | Township of Logan.
| Approximately 1,205 feet downstream of the Homer Gap Run confluence | +1081
Mill Run | At the downstream side of 58th Street | +1052 | City of Altoona.
Poplar Run | Approximately 550 feet upstream of Poplar Run Road | +1234 | Township of Freedom.
| Approximately 780 feet upstream of Poplar Run Road | +1239
* National Geodetic Vertical Datum.
+ North American Vertical Datum.
# Depth in feet above ground.
‸ Mean Sea Level, rounded to the nearest 0.1 meter.
ADDRESSES
Borough of Bellwood
Maps are available for inspection at the Borough Hall, 400 North 1st Street, Bellwood, PA 16617.
Borough of Roaring Spring
Maps are available for inspection at the Borough Building, 616 Spang Street, Roaring Spring, PA 16673.
City of Altoona
Maps are available for inspection at City Hall, 1301 12th Street, Suite 300, Altoona, PA 16601.
Township of Allegheny
Maps are available for inspection at the Allegheny Township Building, 3131 Colonial Drive, Duncansville, PA 16635.
Township of Freedom
Maps are available for inspection at the Freedom Township Building, 131 Municipal Street, East Freedom, PA 16637.
Township of Huston
Maps are available for inspection at the Huston Township Office, 1538 Sportsman Road, Martinsburg, PA 16662.
Township of Logan
Maps are available for inspection at the Logan Township Building, 100 Chief Logan Circle, Altoona, PA 16602.
Township of Snyder
Maps are available for inspection at the Snyder Township Building, 108 Baughman Hollow Road, Tyrone, PA 16686.
Township of Taylor
Maps are available for inspection at the Taylor Township Municipal Building, 1002 Route 36, Roaring Spring, PA 16673.
Township of Woodbury
Maps are available for inspection at the Woodbury Township Building, 6385 Clover Creek Road, Williamsburg, PA 16693.
Roane County, West Virginia, and Incorporated Areas
Docket No. FEMA-B-1158
Goff Run | Approximately 0.41 mile upstream of Williams Drive | +734 | Unincorporated Areas of Roane County.
| Approximately 0.53 mile upstream of Williams Drive | +739
Reedy Creek | Approximately 940 feet downstream of Mill Street | +678 | Unincorporated Areas of Roane County.
| Approximately 214 feet upstream of Mill Street | +679
Reedy Creek | Approximately 1,890 feet upstream of Center Street | +678 | Unincorporated Areas of Roane County.
| Approximately 0.40 mile upstream of Center Street | +678
Reedy Creek | Approximately 1,230 feet upstream of Mill Street | +679 | Unincorporated Areas of Roane County.
| Approximately 1,810 feet upstream of Mill Street | +679
Spring Creek | Approximately 1,784 feet downstream of Roane Avenue | +724 | Unincorporated Areas of Roane County.
| Approximately 1,519 feet downstream of Roane Avenue | +724
Spring Creek | Approximately 355 feet downstream of Spring Creek Dam | +727 | Unincorporated Areas of Roane County.
| Approximately 352 feet downstream of Clary Road | +728
Tanner Run | Approximately 510 feet upstream of Main Street | +726 | Unincorporated Areas of Roane County.
| Approximately 0.51 mile upstream of Main Street | +733
* National Geodetic Vertical Datum.
+ North American Vertical Datum.
# Depth in feet above ground.
‸ Mean Sea Level, rounded to the nearest 0.1 meter.
ADDRESSES
Unincorporated Areas of Roane County
Maps are available for inspection at the Roane County Courthouse, 200 Main Street, Spencer, WV 25276.

(Catalog of Federal Domestic Assistance No. 97.022, “Flood Insurance.”)

Dated: January 30, 2012.
Sandra K. Knight,
Deputy Associate Administrator for Mitigation, Department of Homeland Security, Federal Emergency Management Agency.

[FR Doc. 2012-3202 Filed 2-10-12; 8:45 am]

BILLING CODE 9110-12-P